DEPARTMENT OF HEALTH AND HUMAN SERVICES

Indian Health Service

Reimbursement Rates for Calendar Year 2015

AGENCY: Indian Health Service, HHS.

ACTION: Notice.

SUMMARY: Notice is given that the Director of the Indian Health Service (IHS), under the authority of sections 321(a) and 322(b) of the Public Health Service Act (42 U.S.C. 248 and 249(b)), Public Law 83-568 (42 U.S.C. 2001(a)), and the Indian Health Care Improvement Act (25 U.S.C. 1601 et seq.), has approved the following rates for inpatient and outpatient medical care provided by IHS facilities for Calendar Year 2015 for Medicare and Medicaid beneficiaries, and beneficiaries of other Federal programs, and for recoveries under the Federal Medical Care Recovery Act (42 U.S.C. §§ 2651-2653). The Medicare Part A inpatient rates are excluded from the table below as they are paid based on the prospective payment system. Since the inpatient rates set forth below do not include all physician services and practitioner services, additional payment shall be available to the extent that those services are provided.

| Calendar Year 2015
Inpatient Hospital Per Diem Rate (Excludes Physician/Practitioner Services)
Lower 48 States | $2,443
Alaska | 2,926
Outpatient Per Visit Rate (Excluding Medicare)
Lower 48 States | 350
Alaska | 601
Outpatient Per Visit Rate (Medicare)
Lower 48 States | 307
Alaska | 564
Medicare Part B Inpatient Ancillary Per Diem Rate
Lower 48 States | 516
Alaska | 956

Outpatient Surgery Rate (Medicare)

Established Medicare rates for freestanding Ambulatory Surgery Centers.

Effective Date for Calendar Year 2015 Rates

Consistent with previous annual rate revisions, the Calendar Year 2015 rates will be effective for services provided on/or after January 1, 2015 to the extent consistent with payment authorities including the applicable Medicaid State plan.

Dated: December 12, 2014.
Yvette Roubideaux,
Acting Director, Indian Health Service.

Editorial Note: The Federal Register received this document for publication on March 31, 2015.

[FR Doc. 2015-07779 Filed 4-6-15; 8:45 am]

BILLING CODE 4160-16-P